ENVIRONMENTAL PROTECTION AGENCY

40 CFR Part 52

[TX-122-1-7451b; FRL-6860-4]

Approval and Promulgation of Implementation Plans; Texas; Reasonably Available Control Technology for Major Stationary Sources of Nitrogen Oxides for the Houston/Galveston, Beaumont/Port Arthur, and Dallas/Fort Worth Ozone Nonattainment Areas

AGENCY: Environmental Protection Agency (EPA).

ACTION: Proposed rule.

SUMMARY: The EPA is proposing to take direct final action on revisions to the Texas State Implementation Plan. The revisions concern Control of Air Pollution from Nitrogen Compounds. Specifically, this rulemaking covers three separate actions: Converting EPA's conditional approval of the revisions to the 30 TAC, Chapter 117, Control of Air Pollution from Nitrogen Compounds for major stationary sources in the Beaumont/Port Arthur (B/PA) and Houston/Galveston (H/GA) ozone nonattainment areas to a full approval, as meeting the Reasonably Available Control Technology (RACT) requirements for controlling Oxides of Nitrogen (NOX) emission from major stationary sources in the B/PA and H/GA ozone nonattainment areas; approving Revisions to the 30 TAC, Chapter 117, Control of Air Pollution from Nitrogen Compounds for lean burn, stationary, reciprocating internal combustion engines in the B/PA, and H/GA ozone nonattainment areas; and approving Revisions to the 30 TAC, Chapter 117, Control of Air Pollution from Nitrogen Compounds, for major stationary sources in the Dallas/Fort Worth (D/FW) ozone nonattainment area, as meeting the RACT requirements for controlling the NOx emission from major stationary sources in the D/FW ozone nonattainment area. The EPA is approving these revisions to regulate emissions of Nitrogen dioxide in accordance with the requirements of the Federal Clean Air Act.

In the “Rules and Regulations” section of this Federal Register, EPA is approving the State's SIP revision as a direct final rule without prior proposal because the EPA views this as a noncontroversial revision and anticipates no adverse comment. The EPA has explained its reasons for this approval in the preamble to the direct final rule. If EPA receives no relevant adverse comments, the EPA will not take further action on this proposed rule. If EPA receives relevant adverse comment, EPA will withdraw the direct final rule and it will not take effect. The EPA will address all public comments in a subsequent final rule based on this proposed rule. The EPA will not institute a second comment period on this action. Any parties interested in commenting must do so at this time.

DATES: Written comments must be received by October 2, 2000.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733.

Texas Natural Resource Conservation Commission, Office of Air Quality, 12124 Park 35 Circle, Austin, Texas 78753.

FOR FURTHER INFORMATION CONTACT: Mr. Alan Shar, P.E., Air Planning Section (6PD-L), EPA Region 6, 1445 Ross Avenue, Dallas, Texas 75202-2733, telephone (214) 665-6691.

SUPPLEMENTARY INFORMATION: This document concerns Control of Air Pollution from Nitrogen Compounds and the RACT requirements in the B/PA, H/GA, and D/FW ozone nonattainment areas. For further information, please see the information provided in the direct final action that is located in the “Rules and Regulations” section of this Federal Register publication.

Authority: 42 U.S.C. 7401 et seq.

Dated: August 11, 2000.
Myron O. Knudson,
Acting Regional Administrator, Region 6.

[FR Doc. 00-22057 Filed 8-31-00; 8:45 am]

BILLING CODE 6560-50-P